DEPARTMENT OF HEALTH AND HUMAN SERVICES

Centers for Disease Control and Prevention

National Center for Injury Prevention and Control/Initial Review Group, (NCIPC/IRG)

In accordance with section 10(a)(2) of the Federal Advisory Committee Act (Pub. L. 92-463), the Centers for Disease Control and Prevention (CDC), announces the following meeting of the aforementioned review group:

Time and Date: 12:30 p.m.-4 p.m., February 25, 2010. (Closed).

Place: Teleconference.

Status: The meeting will be closed to the public in accordance with provisions set forth in Section 552b(c)(4) and (6), Title 5, U.S.C., and the Determination of the Director, Management Analysis and Services Office, CDC, pursuant to Section 10(d) of Public Law 92-463.

Purpose: This group is charged with providing advice and guidance to the Secretary, Department of Health and Human Services, and the Director, CDC, concerning the scientific and technical merit of grant and cooperative agreement applications received from academic institutions and other public and private profit and nonprofit organizations, including State and local government agencies; conducting research on strategies to translate, disseminate, implement, and adopt science-based recommendations and guidelines for the care of acutely injured persons; or determine and evaluate the components of trauma systems that contribute to improved outcomes for acutely injured persons.

Matters To Be Discussed: The meeting will include the review, discussion, and evaluation of applications intended to (1) Evaluate strategies to translate, disseminate, implement, and adopt science-based recommendations and guidelines for the care of acutely injured persons. (2) Determine and evaluate the components of trauma systems that contribute to improved outcomes for acutely injured persons. Requests for Applications are related to the following individual research announcement: CE10-003, Research Priorities in Acute Injury Care (R01).

Agenda items are subject to change as priorities dictate.

Contact Person for More Information: J. Felix Rogers, Ph.D., M.P.H., Telephone (770) 488-4334, NCIPC, CDC, 4770 Buford Highway, NE., Mail Stop F63, Atlanta, Georgia 30341.

The Director, Management Analysis and Services Office has been delegated the authority to sign Federal Register notices pertaining to announcements of meetings and other committee management activities for both CDC and the Agency for Toxic Substances and Disease Registry.

Dated: February 4, 2010.
Elaine L. Baker,
Director, Management Analysis and Services Office, Centers for Disease Control and Prevention.

[FR Doc. 2010-3062 Filed 2-16-10; 8:45 am]

BILLING CODE 4163-18-P